DEPARTMENT OF THE INTERIOR

Fish and Wildlife Service

[FWS-R8-FHC-2011-N176; 81420-9812-0520-Y4-FY11]

Draft Damage Assessment and Restoration Plan and Environmental Assessment for the M/V Cosco Busan Oil Spill

AGENCY: Fish and Wildlife Service, Interior.

ACTION: Notice of availability; request for comments.

SUMMARY: In accordance with the Oil Pollution Act of 1990 (OPA) and the National Environmental Policy Act (NEPA), we, the Federal and State trustee agencies (trustees), have written a Draft Damage Assessment and Restoration Plan/Environmental Assessment (draft DARP/EA) that describes proposed alternatives for restoring injured natural resources and compensating recreational losses resulting from the Cosco Busan oil spill, which occurred in November 2007 in the San Francisco Bay Area. The purpose of this notice is to inform the public of the availability of the draft DARP/EA and to seek written comments on our proposed restoration alternatives in the draft DARP/EA.

DATES: We will consider public comments received on or before October 31, 2011.

ADDRESSES: You may download the Draft Damage Assessment and Restoration Plan/Environmental Assessment (draft DARP/EA) at any of the following Web sites:

• http://www.fws.gov/contaminants/Issues/OilSpill.cfm.

• http://www.dfg.ca.gov/ospr/Science/cosco_busan_spill.aspx.

• darrp.noaa.gov/southwest/cosco/index.html.

Alternatively, you may request paper copies of the draft DARP/EA from Janet Whitlock, U.S. Fish and Wildlife Service, 2800 Cottage Way, Room W-2605, Sacramento, CA 95825-1888. For other methods of obtaining the draft DARP/EA, as well as how to view the administrative record for this action, please see Obtaining Documents for Comment.

You may submit comments on the draft DARP/EA by one of the following methods:

• E-mail: janet_whitlock@fws.gov.

• U.S. Mail or Hand Delivery: Janet Whitlock, at the above address.

FOR FURTHER INFORMATION CONTACT: Janet Whitlock, at the above address.

SUPPLEMENTARY INFORMATION:

Background

On November 7, 2007, the cargo carrier M/V Cosco Busan struck a portion of the fendering system for the San Francisco-Oakland Bay Bridge's Delta Tower. This ruptured one or more of the vessel's fuel tanks, allowing a portion of the vessel's bunker oil to be discharged into the San Francisco Bay. The estimated discharge amounted to approximately 53,000 gallons of Intermediate Fuel Oil 380, a heavy fuel oil used primarily to propel ships. The oil spread with the tides throughout the central San Francisco Bay and outside the Bay as far north as Point Reyes and as far south as Half Moon Bay oiling shorelines and wildlife. A wide variety of resources were impacted, including birds, fish, shoreline habitats, and human recreational activities.

We, the Federal and State trustees, have completed the injury assessment under the Oil Pollution Act of 1990 (OPA; 33 U.S.C. 2701 et seq.), and have estimated that 6,849 birds were killed, 3,367 acres of shoreline habitat were oiled, 14-29 percent of the 2007-08 herring spawn was lost, and 1,079,000 human recreational trips were lost.

The trustees are:

• U.S. Department of the Interior, acting through the U.S. Fish and Wildlife Service, National Park Service, and the Bureau of Land Management;

• U.S. Department of Commerce, acting through the National Oceanic and Atmospheric Administration; and

• State of California, acting through the California Department of Fish and Game and the California State Lands Commission.

Legal Settlement

The trustees negotiated a settlement in which the responsible parties, the owner and the operator of the vessel under OPA, will pay damages to compensate the public for the injuries to natural resources and lost recreation. The Consent Decree, the legal agreement which gives effect to the settlement, has been lodged in the Federal District Court and is the subject of a separate Federal Register notice and public comment period. Pursuant to the Consent Decree, the trustees expect to receive $32.3 million to implement and oversee restoration projects to benefit the resources that were injured in the spill and the public whose use of the resources was disrupted. The trustees anticipate allocating funds among the categories of injured resources and public use enhancements as follows: $5 million to benefit birds, $4 million to benefit shoreline habitats, $2.5 million to benefit eelgrass and fish, and $18.8 million for recreational improvements. Additional details regarding the proposed use of these funds are included in the draft DARP/EA and are summarized below.

Overview of the Draft DARP/EA

Summary

The draft DARP/EA is being released in accordance with the OPA, the Natural Resource Damage Assessment regulations found in the Code of Federal Regulations (CFR) at 15 CFR part 990, and the National Environmental Policy Act (42 U.S.C. 4321 et seq.) It describes the trustees' proposal to restore natural resources injured by the M/V Cosco Busan spill and evaluates the impacts of the preferred restoration actions. The draft DARP/EA also describes the injury assessment; uses selection criteria to evaluate various projects to benefit birds, fish and eelgrass, and shoreline habitats; and discusses the environmental consequences of each preferred project. In addition, the draft DARP/EA describes a process for selecting recreational improvement projects.

Preferred Restoration Actions

Birds

The preferred restoration actions to benefit birds proposed in the draft DARP/EA include: creating roosting and nesting platforms on the old Berkeley Pier; nest site improvements on the Farallon Islands; water level management for wintering diving birds at the South Bay Salt Ponds; Grebe colony enhancement at Tule Lake National Wildlife Refuge; marbled murrelet nesting habitat protection at Humboldt Redwoods and Grizzly Creek State Parks; and projects benefiting surf scoters and diving ducks.

Shoreline Habitats

Preferred restoration actions to benefit shoreline habitats include: Dune restoration at Muir Beach in the Golden Gate National Recreation Area; restoration at Albany Beach in the East Bay; restoration at Aramburu Island; native oyster restoration at multiple sites in San Francisco Bay; and rockweed restoration at multiple sites in San Francisco Bay.

Fish and Eelgrass

Preferred restoration actions to benefit fish and eelgrass include eelgrass restoration at multiple sites in the San Francisco Bay.

Recreational Improvement Projects

Preferred restoration actions to benefit recreational uses throughout the Bay Area and outer coast will be determined through a separate process.

Administrative Record

Pursuant to the OPA Natural Resource Damage Assessment regulations, the trustees have developed an Administrative Record that informs the public of information considered by them in restoration planning. Additional information and documents, including public comments received on this draft DARP/EA, the Final Restoration Plan (when it becomes available), and other related restoration planning documents, will also become part of the Administrative Record.

Request for Comments

Interested members of the public are invited to review and comment on the draft DARP/EA by the methods listed under ADDRESSES. Note that there are separate instructions in the draft DARP/EA document on how to submit comments. If you submit written comments according to the instructions in the draft DARP/EA, please do not resubmit them using another method. Submit only one set of comments by only one of the methods listed in this notice or by the method listed in the draft DARP/EA.

Written comments will be considered and addressed in the final DARP/EA at the conclusion of the restoration planning process. Comments will become part of the administrative record and available for public review as part of the record.

Public Availability of Comments

Before including your address, phone number, email address, or other personal identifying information in your comment, you should be aware that your entire comment—including your personal identifying information—may be made publicly available at any time. While you can ask us in your comment to withhold your personal identifying information from public review, we cannot guarantee that we will be able to do so.

Obtaining Documents for Comment

Draft DARP/EA

The draft DARP/EA can be viewed in person by contacting Janet Whitlock at (916) 414-6599.

Administrative Record

The documents comprising the Administrative Record can be viewed electronically at the following location:

• http://www.dfg.ca.gov/ospr/Science/cosco_busan_admin.aspx.

The administrative record is on file at the following location:

• California Department of Fish and Game, Office of Spill Prevention and Response, 1700 K Street, Suite 250, Sacramento, CA 95814.

Arrangements may be made to view the record at this location by contacting Steve Hampton by telephone at (916) 323-4724.

Author

The primary author of this notice is Janet Whitlock (address above).

Authority

The authority for this action is the Oil Pollution Act of 1990 (33 U.S. C. 2701 et seq.) and the implementing Natural Resource Damage Assessment regulations found at 15 CFR part 990.

Dated: September 19, 2011.
Alexandra Pitts,
Acting Regional Director, Pacific Southwest Region.

[FR Doc. 2011-24769 Filed 9-26-11; 8:45 am]

BILLING CODE 4310-55-P